DEPARTMENT OF STATE

[Public Notice: 9745]

Notice of Public Meeting of the President's Emergency Plan for AIDS Relief (PEPFAR) Scientific Advisory Board

Summary: In accordance with the Federal Advisory Committee Act (FACA), the PEPFAR Scientific Advisory Board (hereinafter referred to as “the Board”) will meet on Tuesday, November 1, 2016 at 1800 G St. NW., Suite 10300, Washington DC 20006. The meeting will last from 8:30 a.m. until approximately 5:30 p.m. and is open to the public.

The meeting will be hosted by the Office of the U.S. Global AIDS Coordinator and Health Diplomacy, and led by Ambassador Deborah Birx, who leads implementation of the President's Emergency Plan for AIDS Relief (PEPFAR), and the Board Chair, Dr. Carlos del Rio.

The Board serves the Global AIDS Coordinator in a solely advisory capacity concerning scientific, implementation, and policy issues related to the global response to HIV/AIDS. These issues will be of concern as they influence the priorities and direction of PEPFAR evaluation and research, the content of national and international strategies and implementation, and the role of PEPFAR in international discourse regarding an appropriate and resourced response. Topics for the meeting will include follow-up discussions of previous Board recommendations on financing and economics, and tuberculosis-HIV co-infection; updates on PEPFAR 3.0 programmatic activities in a number of areas including pre-exposure prophylaxis in pregnant and breastfeeding women; HPV testing in people living with HIV; voluntary medical male circumcision; and financing, data usage and increasing civil society engagement in PEPFAR processes and decisions.

The public may attend this meeting as seating capacity allows. Admittance to the meeting will be by means of a pre-arranged clearance list. In order to be placed on the list and, if applicable, to request reasonable accommodation, please register online via the following: https://goo.gl/forms/0IonzRZq4lMcxwYB2 no later than Friday, October 21. While the meeting is open to public attendance, the Board will determine procedures for public participation. Requests for reasonable accommodation that are made after 5 p.m. on October 21 might not be possible to fulfill.

For further information about the meeting, please contact Dr. Ebony Coleman, Designated Federal Officer for the Board, Office of the U.S. Global AIDS Coordinator and Health Diplomacy at ColemanEM@state.gov.

Dated: September 15, 2016.
Ebony Coleman,
Office of the U.S. Global AIDS Coordinator and Health Diplomacy, Department of State.

[FR Doc. 2016-24095 Filed 10-4-16; 8:45 am]

BILLING CODE 4710-10-P